DEPARTMENT OF JUSTICE

Notice of Lodging of Consent Decrees Under the Comprehensive Environmental Response, Compensation, and Liability Act

Notice is hereby given that on May 21, 2007, proposed Consent Decrees in United States and the State of Indiana v. General Motors Corp., et al., Civil Action No. 3:07CV239RL (“Generator Consent Decree”), and in United States v. David N. Lindsay, Civil Action No. 3:07CV240RL (“Lindsay Consent Decree”) were lodged with the United States District Court for the Northern District of Indiana, South Bend Division.

In these related actions, the United States sought to recover response costs that it had incurred at or in connection with the Lakeland Disposal Service, Inc., Superfund Site in Kosciusko County, Indiana (the “Site”), against alleged generators of hazardous waste disposed of at the Site (“Generator Consent Decree”) and against Mr. David Lindsay, an alleged former owner and operator of the Site (“Lindsay Consent Decree”), pursuant to Section 107(a) of the Comprehensive Environmental Response, Compensation, and Liability Act (“CERCLA”), 42 U.S.C. 9607(a). The United States also sought injunctive relief, pursuant to Section 106 of CERCLA, 42 U.S.C. 9606, against alleged generators of hazardous waste disposed of at the Site (“Generator Consent Decree”), requiring that the alleged generators take action to abate conditions at or near the Site that may present an imminent and substantial endangerment to the public health or welfare or the environment because of actual and threatened releases of hazardous substances into the environment at or from the Site. Additionally, the United States and the State of Indiana sought recovery of damages for injury to, loss of, or destruction of natural resources at or near the Site against alleged generators of hazardous waste disposed of at the Site (“Generator Consent Decree”), pursuant to Section 107(f) of CERCLA, 42 U.S.C. 9607(f).

The Generator Consent Decree would resolve the United States' cost recovery and injunctive relief claims with regard to the Site against Settling Defendants under Sections 106 and 107(a) of CERCLA, 42 U.S.C. 9606 and 9607(a) through Settling Defendants' payment to the Superfund of $1.12 million in past response costs through costs through November 30, 2005, and Settling Defendants' financing and performing the remaining work under the Record of Decision to complete the remedy at the Site. The Generator Consent Decree would also resolve the United States' and the State of Indiana's claim for damages to natural resources at or near the Site against Settling Defendants through Settling Defendants' Reimbursement of $50,000 in assessment costs ($35,000 to the U.S. Department of Interior (DOI) and $15,000 to the State of Indiana), and payment of $200,000 into the Natural Resource Damage Assessment and Restoration Fund to fund DOI and State Co-Trustee sponsored restoration projects.

As a condition of settlement under the Generator Consent Decree, Settling Defendants would relinquish all claims or causes of action with respect to the Site or natural resource damages against the United States or the States of Indiana. In return, the Settling Defendants would receive contribution protection and a covenant not to sue from the United States under Section 106 and 107(a) with regard to the Site, and from the United States and the State of Indiana under Section 107(f) of CERCLA for natural resource damages at or near the Site, Subject to certain reservations of rights.

The Lindsay Consent Decree would resolve the United States' cost recovery claims with regard to the Site against Mr. Lindsay under Section 107(a) of CERCLA through a reimbursement to the Superfund of $3,000. This payment amount is based upon a documented limited ability to pay. As a condition of settlement under the Lindsay Consent Decree, Mr. Lindsay would relinquish all claims or causes of action with respect to the Site against the United States. In return, Mr. Lindsay would receive contribution protection and a covenant not to sue from the United States under Section 106 and 107(a) with regard to the Site, subject to certain reservations of rights.

The Department of Justice will receive for a period of thirty (30) days from the date of this publication comments relating to the Generator Consent Decree and Lindsay Consent Decree. Comments should be addressed to the Assistant Attorney General, Environment and Natural Resources Division, and either e-mailed to pubcomment-ees.enrd@usdoj.gov or mailed to P.O. Box 7611, U.S. Department of Justice, Washington, DC 20044-7611, and should refer to either: United States and the State of Indiana v. General Motors Corp., et al., Civil Action No. 3:07CV239RL (“generator Consent Decree”), D.J. Ref. 90-11-3-531A; or United States v. David N. Lindsay, Civil Action No. 3:07CV240RL (“Lindsay Consent Decree”), D.J. Ref. 90-11-3-531/9.

The Generator and Lindsay Consent Decrees may be examined at the Office of the United States Attorney for the Northern District of Indiana, 5400 Federal Plaza, Suite 1500, Hammond, Indiana, and at U.S. EPA Region 5, 77 West Jackson Boulevard, 14th Floor, Chicago, Illinois. During the public comment period, the Consent Decrees may also be examined on the following Department of Justice Web site, http://www.usdoj.gov/enrd/Consent_Decrees.html. Copies of the Consent Decrees may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting copies from the Consent Decree Library, please enclose a check, payable to the U.S. Treasury, in the amount of $16.75 (25 cents per page reproduction cost) for the Generator Consent Decree, $6.25 for the Lindsay Consent Decree, or $23.00 for copies of both the Generator and Lindsay Consent Decrees, or, if by e-mail or fax, forward a check in the applicable amount to the consent Decree Library at the stated address.

William D. Brighton,
Assistant Chief, Environmental Enforcement Section, Environment and Natural Resources Division.

[FR Doc. 07-2816 Filed 6-6-07; 8:45 am]

BILLING CODE 4410-15-M